LEGAL SERVICES CORPORATION

Sunshine Act Meeting of the Finance Committee of the Board of Directors; Notice

DATE AND TIME: The Finance Committee of the Legal Services Corporation will meet telephonically on June 16, 2011. The meeting will begin at 11 a.m., Eastern Standard Time, and will continue until the conclusion of the Committee's agenda.

LOCATION: F. William McCalpin Conference Center, Legal Services Corporation Headquarters Building, 3333 K Street, NW., Washington, DC 20007.

PUBLIC OBSERVATION: Members of the public who are unable to attend but wish to listen to the public proceedings may do so by following the telephone call-in directions provided below but are asked to keep their telephones muted to eliminate background noises. From time to time, the presiding Chair may solicit comments from members of the public present for the meeting.

CALL-IN DIRECTIONS: • Call toll-free number: 1-866-451-4981;

• When prompted, enter the following numeric pass code: 5907707348;

• When connected to the call, please “MUTE” your telephone immediately.

* * * * *

STATUS OF MEETING: Open.

MATTERS TO BE CONSIDERED:

OPEN SESSION:

1. Approval of agenda

2. Approval of the minutes of the Committee's meeting of April 15, 2011

3. Public Comment regarding LSC's fiscal year 2013 “budget mark.”

• Presentation by Robert Stein on behalf of the American Bar Association's Standing Committee on Legal Aid and Indigent Defense (SCLAID)

• Presentation by Don Saunders on behalf of National Legal Aid and Defender Association

• Comments by other interested parties

4. Consider and act on other business

5. Consider and act on adjournment of meeting

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: June 9, 2011.
Victor M. Fortuno,
Vice President, General Counsel & Corporate Secretary.

[FR Doc. 2011-14746 Filed 6-10-11; 11:15 am]

BILLING CODE 7050-01-P